DEPARTMENT OF TRANSPORTATION

Federal Railroad Administration

[Docket No. FRA-2017-0002-N-26]

Proposed Agency Information Collection Activities; Comment Request

AGENCY: Federal Railroad Administration (FRA), Department of Transportation (DOT).

ACTION: Notice of Information Collection; request for comment.

SUMMARY: Under the Paperwork Reduction Act of 1995 (PRA), this notice announces that FRA is forwarding the Information Collection Requests (ICRs) abstracted below to the Office of Management and Budget (OMB) for review and comment. The ICRs describe the information collections and their expected burden. On September 13, 2017, FRA published a notice providing a 60-day period for public comment on the ICRs.

DATES: Interested persons are invited to submit comments on or before January 10, 2018.

ADDRESSES: Submit written comments on the ICRs to the Office of Information and Regulatory Affairs, Office of Management and Budget, 725 17th Street NW., Washington, DC 20503, Attention: FRA Desk Officer. Comments may also be sent via email to OMB at the following address: oira_submissions@omb.eop.gov.

FOR FURTHER INFORMATION CONTACT: Mr. Robert Brogan, Information Collection Clearance Officer, Office of Railroad Safety, Regulatory Analysis Division, RRS-21, Federal Railroad Administration, 1200 New Jersey Avenue SE., Mail Stop 25, Washington, DC 20590 (telephone: (202) 493-6292); or Ms. Kim Toone, Information Collection Clearance Officer, Office of Administration, Office of Information Technology, RAD-20, Federal Railroad Administration, 1200 New Jersey Avenue SE., Mail Stop 35, Washington, DC 20590 (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8-12. On September 13, 2017, FRA published a 60-day notice in the Federal Register soliciting comment on the ICRs for which it is now seeking OMB approval. See 82 FR 43079. FRA received no comments in response to this notice.

Before OMB decides whether to approve these proposed collections of information, it must provide 30 days for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Identification of Cars Moved under 49 CFR 232.3(d) (Formerly Order 13528).

OMB Control Number: 2130-0506.

Abstract: This collection of information identifies certain railroad freight cars authorized to move under 49 CFR 232.3(d) (formerly Interstate Commerce Commission Order 13528). Paragraph (d) of 49 CFR 232.3 allows for the movement of certain railroad freight cars without air brakes from initial terminal locations or through interchange locations under certain conditions.

Paragraph (d) of 49 CFR 232.3 requires the cars to be identified by a card attached to the side of the equipment specifically noting and signed by the shipper that the car is being moved under the authority of that paragraph. Railroads typically use carrier bad order forms or tags for these purposes. These forms are readily available from all carrier repair facilities. If a car moving under 49 CFR 232.3(d) is not properly tagged, a carrier is not allowed to move the car. Section 232.3(d)(3) does not require carriers or shippers to retain cards or tags. When a car bearing the two tags for movement under this provision arrives at its destination, the tags are simply removed. FRA estimates approximately 400 cars per year are moved under this regulation. Railroad employees use the information collected to ensure that cars moved in accordance with Order 13528 arrive at the correct destination. These records are not maintained for the purpose of information collection per se.

Type of Request: Extension without change of a current information collection.

Affected Public: Businesses.

Form(s): N/A.

Respondent Universe: 755 railroads.

Frequency of Submission: On occasion.

Total Estimated Annual Responses: 800.

Total Estimated Annual Burden: 67 hours.

Title: U.S. Locational Requirement for Dispatching U.S. Rail Operations.

OMB Control Number: 2130-0556.

Abstract: With one exception, 49 CFR part 241 requires, in the absence of a waiver, that all dispatching of railroad operations occurring in the United States be performed in the United States. A railroad may, however, conduct dispatching from Mexico or Canada in an emergency, but only for the duration of the emergency. A railroad relying on this exception must provide written notification of its action to the FRA Regional Administrator of each FRA region in which the railroad emergency operation occurs as soon as practicable; such notification is not required before addressing the emergency. The information collected under this rule is used as part of FRA's oversight function to ensure that extraterritorial dispatchers comply with applicable safety regulations.

Type of Request: Extension without change of a current information collection.

Affected Public: Businesses.

Form(s): N/A.

Respondent Universe: 4 railroads.

Frequency of Submission: On occasion.

Total Estimated Annual Responses: 1.

Total Estimated Annual Burden: 8 hours.

Title: Safety and Health Requirements Related to Camp Cars.

OMB Control Number: 2130-0595.

Abstract: Subparts C and E of 49 CFR part 228 address the construction of railroad-provided sleeping quarters (camp cars) and set certain safety and health requirements for such camp cars. Specifically, subpart E of part 228 prescribes minimum safety and health requirements for camp cars that a railroad provides as sleeping quarters to any of its train employees, signal employees, or dispatching service employees (covered-service employees), and individuals employed to maintain its right-of-way. Subpart E requires railroad-provided camp cars to be clean, safe, sanitary, and equipped with indoor toilets, potable water, and other features to protect the health of car occupants. Subpart C of part 228 prohibits a railroad from positioning a camp car intended for occupancy in the immediate vicinity of a switching or humping yard which handles railcars containing hazardous material (see 49 CFR 228.102). Generally, the requirements of subparts C and E of part 228 are intended to provide covered-service employees an opportunity for rest free from the interruptions caused by noise under the control of the railroad.

The information collected under this rule is used by FRA to ensure railroads operating camp cars comply with all the requirements mandated in this regulation to protect the health and safety of camp car occupants. Specifically, the information collected is used by FRA inspectors to verify that railroads operating camp cars inspect each water hydrant, hose, or nozzle used for supplying potable water to a camp car water system prior to use and keep records of these inspections required under § 228.323. Each such hose or nozzle used must be cleaned and sanitized as part of the inspection. A signed, dated record of this inspection must be kept within the camp for the period of the connection. When the connection is terminated, a copy of each of these records must be submitted promptly to a centralized location for the railroad and maintained for one year from the date the connection was terminated. Review of the required record enables FRA inspectors to closely monitor water hydrants, hoses, and nozzles used for supplying potable water to a camp car water system are properly cleaned, sanitized, and inspected in order to prevent camp car occupants from drinking contaminated water. The information collected under § 228.323 is also used by FRA to confirm that only trained individuals are permitted to fill the potable water systems.

Furthermore, under this section, FRA inspectors verify that railroads keep essential certification records/copies regarding the safety of potable water from a different local source. The requirement states that each time that potable water is drawn from a different local source, the railroad must obtain a certificate from a State or local health authority indicating that the water from this source is of a quality not less than that prescribed in the National Primary Drinking Water Regulations promulgated by the U.S. Environmental Protection Agency or obtain such a certificate by a certified laboratory following testing for compliance with those standards. The current certification must be kept within the camp for the duration of the connection. When the connection is terminated, a copy of each of these records must be submitted promptly to a centralized location for the railroad and maintained for one year from the date the connection was terminated. Certification by a State or local health authority or testing by a certified laboratory and FRA review of certification records help ensure that drinking water used by camp car occupants meets Federal standards and is safe for consumption.

Also, under § 228.323, FRA inspectors verify that necessary flushing records are kept by railroads operating camp cars. Under the requirement, each potable water system must be drained and flushed with a disinfecting solution at least once every 120 days. The railroad must maintain a record of the draining and flushing of each separate system within the camp for the last two drain and flush cycles. The record must contain the date of the work and the name(s) of the individual(s) performing the work. The original record must be maintained with the camp. A copy of each of these records must be sent to a centralized location for the railroad and maintained for one year. To be safe for consumption by camp car occupants, it is critical that potable water systems be drained and flushed periodically with a disinfecting solution to prevent the growth of bacteria that causes sickness. FRA closely monitors the required flushing and taste records to ensure that this necessary task is completed on a continuing basis while camp cars are operational, especially when camp car occupants report experiencing taste problems with the drinking water.

Under § 228.331, FRA ensures that any railroad using camp cars submits a master emergency preparedness plan pertaining to life safety and prominently display a copy of this plan in all their camp cars so that all camp occupants can view it at their convenience. FRA reviews each plan to ensure that it addresses the following items: (1) The means used to be aware of and notify all occupants of impending weather threats, including thunderstorms, tornados, hurricanes, floods and other major weather related risks; (2) shelter-in-place and emergency-evacuation instructions for each of the specific threats identified; and (3) the address and telephone number of the nearest emergency medical facility and directions on how to get there from the camp car. Camp car occupants use this information to take necessary action to protect their lives and health.

Finally, under § 228.333, railroads must take remedial action within 24 hours after receiving a good faith notice from a camp car occupant or an employee labor organization or notice from FRA of non-compliance with this subpart E. Railroads use the good faith notices or notice from FRA to correct each non-complying condition on a camp car. If the non-complying condition is not correctable, the railroad has to cease use of the camp car as sleeping quarters for each occupant. FRA inspectors use this information to ensure that railroads take necessary remedial actions for camp cars with non-complying conditions.

Type of Request: Extension without change of a current information collection.

Affected Public: Businesses.

Form(s): N/A.

Respondent Universe: 1 railroad.

Frequency of Submission: On occasion.

Total Estimated Annual Responses: 11,206.

Total Estimated Annual Burden: 1,043 hours.

Title: Training, Qualification, and Oversight for Safety-Related Railroad Employees.

OMB Control Number: 2130-0597.

Abstract: On November 7, 2014, FRA published a final rule—amendments to 49 CFR parts 214 and 232 and new part 243—establishing minimum training standards for all safety-related railroad employees, as required by the Rail Safety Improvement Act of 2008. Part 243 requires each railroad or contractor that employs one or more safety-related employees to develop and submit a training program to FRA for approval and to designate the minimum training qualifications for each occupational category of employee. Part 243 also requires most employers to conduct periodic oversight of their own employees and annual written reviews of their training programs to close performance gaps.

Additionally, amended part 214 requires specific training and qualification of operators of roadway maintenance machines that can hoist, lower, and horizontally move a suspended load.

Finally, part 232 clarifies the existing training requirements for railroad and contractor employees who perform inspections, tests, or maintenance of brake system.

FRA uses the information collected to ensure each employer—railroad or contractor—conducting operations subject to new part 243, and railroads subject to amended parts 214 and 232 as appropriate, have developed, adopted, modified, submitted, and complied with a training program for each category and subcategory of safety-related railroad employee. Each program must have training components identified so that FRA will understand how the program works when it reviews the program for approval. Further, FRA reviews the required training programs to ensure they include the following: Initial, ongoing, and on-the-job criteria; testing and skills evaluation measures designed to foster continual compliance with Federal standards; and the identification of critical safety defects and plans for immediate remedial actions to correct them.

In response to petitions for reconsideration, FRA has extended the effective date for developing the required training program under § 243.101 for employers with 400,000 or more total annual employee work hours to January 1, 2019, and for employers with less than 400,000 total annual employee work hours to May 1, 2020.

Type of Request: Extension with change of a current information collection.

Affected Public: Businesses.

Form(s): N/A.

Respondent Universe: 1,550 railroads/contractors/training organizations/learning institutions.

Frequency of Submission: On occasion.

Total Estimated Annual Responses: 71,752.

Total Estimated Annual Burden: 281,752 hours.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Deputy Chief Counsel.

[FR Doc. 2017-26626 Filed 12-8-17; 8:45 am]

BILLING CODE 4910-06-P